DEPARTMENT OF ENERGY

Federal Energy Regulatory Commission

[Project No. 2788-015]

Hydro Development Group, Inc.; Notice of Intent To File License Application, Filing of Pre-Application Document, and Approving Use of the Traditional Licensing Process

a. Type of Filing: Notice of Intent to File License Application and Request to Use the Traditional Licensing Process.

b. Project No.: 2788-015.

c. Date Filed: February 28, 2014.

d. Submitted By: Hydro Development Group, Inc.

e. Name of Project: Colliersville Hydroelectric Project.

f. Location: The Colliersville Hydroelectric Project is located on the Susquehanna River in the Towns of Milford and Middlefield, in Otsego County, New York. The project does not affect federal lands.

g. Filed Pursuant to: 18 CFR 5.3 of the Commission's regulations.

h. Potential Applicant Contact: Mr. Kevin M. Webb, Hydro Development Group, Inc., One Tech Drive, Suite 220, Andover, MA 01810; (978) 681-1900 ext. 809; or email at kevin.webb@enel.com.

i. FERC Contact: Andy Bernick at (202) 502-8660 or email at andrew.bernick@ferc.gov.

j. Hydro Development Group, Inc. (Hydro Development Group) filed its request to use the Traditional Licensing Process on February 28, 2014. Hydro Development Group provided public notice of its request on February 27, 2014. In a letter dated April 9, 2014, the Director of the Division of Hydropower Licensing approved Hydro Development Group's request to use the Traditional Licensing Process.

k. With this notice, we are initiating informal consultation with: (a) The U.S. Fish and Wildlife Service under section 7 of the Endangered Species Act and the joint agency regulations thereunder at 50 CFR, Part 402; and (b) the New York State Historic Preservation Officer, as required by section 106, National Historic Preservation Act, and the implementing regulations of the Advisory Council on Historic Preservation at 36 CFR 800.2.

l. With this notice, we are designating Hydro Development Group as the Commission's non-federal representative for carrying out informal consultation pursuant to section 7 of the Endangered Species Act and consultation pursuant to section 106 of the National Historic Preservation Act.

m. Hydro Development Group filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. The licensee states its unequivocal intent to submit an application for a subsequent license for Project No. 2788-015. Pursuant to 18 CFR 16.8, 16.9, and 16.10 each application for a subsequent license and any competing license applications must be filed with the Commission at least 24 months prior to the expiration of the existing license. All applications for license for this project must be filed by February 28, 2017.

p. Register online at http://www.ferc.gov/docs-filing/esubscription.asp to be notified via email of new filing and issuances related to this or other pending projects. For assistance, contact FERC Online Support.

Dated: April 9, 2014.
Kimberly D. Bose,
Secretary.

[FR Doc. 2014-08493 Filed 4-14-14; 8:45 am]

BILLING CODE 6717-01-P